DEPARTMENT OF THE TREASURY

Office of Thrift Supervision

Submission for OMB Review; Comment Request

December 28, 2000.

The Office of Thrift Supervision (OTS) has submitted the following public information collection requirement(s) to OMB for review and clearance under the Paperwork Reduction Act of 1995, Public Law 104-13. Interested persons may obtain copies of the submission(s) by calling the OTS Clearance Officer listed. Send comments regarding this information collection to the OMB reviewer listed and to the OTS Clearance Officer, Office of Thrift Supervision, 1700 G Street, NW., Washington, DC 20552.

DATES: Submit written comments on or before February 2, 2001.

OMB Number: 1550-0059.

Form Number: OTS Form 1583.

Type of Review: Regular.

Title: Capital Distribution.

Description: Provides uniform treatment for capital distributions made by savings associations held by holding companies. Ensures adequate supervision of distribution of capital by those savings associations, thereby fostering safety and soundness of the thrift industry.

Respondents: Savings and Loan Associations and Savings Banks.

Estimated Number of Responses: 687.

Estimated Burden Hours Per Response: 4 hours.

Frequency of Response: Once per occurrence.

Estimated Total Reporting Burden: 2,748 hours.

Clearance Officer: Ralph E. Maxwell, (202) 906-7740, Office of Thrift Supervision, 1700 Street, NW., Washington, DC 20552.

OMB Reviewer: Alexander Hunt, (202) 395-7860, Office of Management and Budget, Room 10202, New Executive Office Building, Washington, DC 20503.

John E. Werner,
Director, Information & Management Services.

[FR Doc. 01-123 Filed 1-2-01; 8:45 am]

BILLING CODE 6720-01-P